DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, call the HRSA Reports Clearance Office on (301) 443-1129.

The following request has been submitted to the Office of Management and Budget for review under the Paperwork Reduction Act of 1995:

Proposed Project: “Health Care and Other Facilities” Project Status Update Form: NEW

The Health Resources and Services Administration's Health Care and Other Facilities (HCOF) program provides earmarked funds to health-related facilities for construction-related activities and/or capital equipment purchases. Awarded facilities are required to provide a periodic (quarterly for construction-related projects, annually for equipment only projects) update of the status of the funded project until it is completed. The monitoring period averages about 3 years, although some projects take up to 5 years to complete. The information collected from these updates is vital to program management staff to determine whether projects are progressing according to the established timeframes, meeting deadlines established in the Notice of Grant Award (NGA), and drawing down funds appropriately. The data collected from the updates is also shared with the Division of Grants Management Operations (DGMO) and the Division of Engineering Services (DES) for their assistance in the overall evaluation of each project's progress.

An electronic form has been developed for progress reporting for the HCOF program. This form will provide awardees access to directly input the required status update information in a timely, consistent, and uniform manner. The electronic form will minimize burden to respondents and will inform respondents when there are missing data elements prior to submission.

The estimate of burden for the form is as follows:

Project type | Number of respondents | Response per respondent | Total responses | Hours per response | Total burden hours
Construction-Related | 395 | 4 | 1,580 | .5 | 790
Equipment Only | 523 | 1 | 523 | .5 | 262
Total | 918 |  | 2,103 |  | 1,052

Written comments and recommendations concerning the proposed information collection should be sent within 30 days of this notice to: Karen Matsuoka, Human Resources and Housing Branch, Office of Management and Budget, New Executive Office Building, Room 10235, Washington, DC 20503.

Dated: June 28, 2007.
Caroline Lewis,
Associate Administrator for Management.

[FR Doc. E7-13169 Filed 7-6-07; 8:45 am]

BILLING CODE 4165-15-P